FEDERAL COMMUNICATIONS COMMISSION

Notice of Public Information Collection(s) Being Reviewed by the Federal Communications Commission for Extension Under Delegated Authority, Comments Requested

March 30, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 8, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov.

FOR FURTHER INFORMATION CONTACT: Judith B. Herman, Office of Managing Director, (202) 418-0214. For additional information, contact Judith B. Herman, 202-418-0214, Judith-B.Herman@fcc.gov.

SUPPLEMENTARY INFORMATION: OMB Control Number: 3060-1062.

Title: Schools and Libraries Universal Service Support (E-Rate) Program, Notification of Equipment Transfers.

Form No.: N/A.

Type of Review: Extension of a currently approved collection.

Respondents: Business or other for-profit, not-for-profit institutions and state, local or tribal government.

Number of Respondents and Responses: 20 respondents; 20 responses.

Estimated Time Per Response: 1 hour.

Frequency of Response: On occasion reporting requirement, recordkeeping requirement and third party disclosure requirement.

Obligation to Respond: Required to obtain or retain benefits. Statutory authority for this information collection is contained in 47 U.S.C. sections 151, 154(i), 154(j), 201-205, 214, 254 and 403.

Total Annual Burden: 20 hours.

Total Annual Cost: N/A.

Privacy Act Impact Assessment: N/A.

Nature and Extent of Confidentiality: The FCC does not require that respondents submit confidential information to the Commission. If the Commission does request applicants to submit information that they believe is confidential, respondents may do so under 47 CFR 0.459 of the Commission's rules.

Needs and Uses: The Commission will submit this expiring information collection to the Office of Management and Budget (OMB) after this comment period in order to obtain the full three year clearance from them. There is no change in the reporting, recordkeeping and/or third party disclosure requirements. The Commission is reporting a 80 hour reduction in the total annual burden. This adjustment is due to fewer respondents since this was last approved by OMB based on updated information received from the Universal Service Administrative Company (USAC), the administrator of the E-rate program.

The purpose of the required notification is to prevent waste, fraud and abuse in the transfer of services and equipment acquired under the E-rate program. Once an eligible school or library has purchased service or equipment using an E-rate discount, section 254 of the Communications Act of 1934 (the Act), as amended, prohibits that school or library from reselling or otherwise transferring the purchased service, or any equipment components of such a service, in consideration for money or any other thing of value. In the Schools and Libraries Third Report and Order (CC Docket No. 02-6, FCC Rcd 26912), the Commission further prohibited schools and libraries from transferring the equipment components of eligible services to other schools within three years of their purchase, even without receiving money or other consideration in return, with one exception. If the schools or library that ordered the eligible services or equipment permanently or temporarily closes, then that school or library can transfer any services and equipment components of those services to another school or library, so long as the school or library notifies USAC of the transfer. Additionally, both the transferor and recipient must maintain detailed records documenting the transfer and the reason for the transfer for a period of five years. See 47 CFR 54.513.

The requirements contained in this information collection are necessary to implement the Act regarding the transfer of services and equipment under the E-rate program and to promote the goal of preventing waste, fraud, and abuse. Further, this information collection enables USAC to verify compliance with the equipment transfer prohibition as part of its beneficiary audit review.

Federal Communications Commission.
Marlene H. Dortch,
Secretary,
Office of the Secretary,
Office of Managing Director.

[FR Doc. 2010-8100 Filed 4-8-10; 8:45 am]

BILLING CODE 6712-01-S